CORPORATION FOR NATIONAL AND COMMUNITY SERVICE

Reinstatement With Change of a Previously Approved Collection for Which Approval Has Expired; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed. This form is available in alternate formats. Individuals who use a telecommunications device for the deaf (TTY/TDD) may call (202) 606-5256 between the hours of 9 a.m. and 4:30 p.m. eastern time, Monday through Friday.

Currently, the Corporation is soliciting comments concerning the proposed revision of its National Senior Service Corps Project Progress Report (OMB Control Number 3045-0033). The previously approved Progress Report expired on August 31, 2003. However, on November 21, 2003, OMB approved a six month emergency extension and assigned a new expiration date of May 31, 2004.

This reinstatement with changes reflects the Corporation's intent to modify selected sections of the collection instrument to reflect changes in data considered “ore reporting” information to meet a variety of needs, including:

• Removing data elements no longer required after January 2004;

• Adding new data elements as needed to ensure information collection captures appropriate data for the Corporation's required performance measurement and other reporting.

DATES: Written comments must be submitted to the office listed in the ADDRESSES section by February 3, 2004.

ADDRESSES: You may submit comments, identified by the title of the information collection activity, by any of the following methods:

(1) By mail sent to: Corporation for National and Community Service, National Senior Service Corps; Attention Ms. Angela Roberts, Senior Program Officer; Room 9305, 1201 New York Avenue, NW., Washington, DC 20525.

(2) By hand delivery or by courier to the Corporation's mailroom at Room 6010 at the mail address given in paragraph (1) above, between 9 a.m. and 4 p.m. Monday through Friday, except Federal holidays.

(3) By fax to: (202) 565-2743, Attention Ms. Angela Roberts, Senior Program Officer.

(4) Electronically through the Corporation's e-mail address system: aroberts@cns.gov.

FOR FURTHER INFORMATION CONTACT: Angela Roberts, (202) 606-5000, ext. 111.

SUPPLEMENTARY INFORMATION:

Comment Request

The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and

• Minimize the burden of the collection of information on those who are to respond, including the use of appropriate automated, electronic, mechanical, or other technological collection techniques or other forms of information technology, e.g., permitting electronic submissions of responses.

Background

The Progress Report (PPR) was designed to assure that National Service Corps (NSSC) grantees address and fulfill legislated program purposes, meet agency program management and grant requirements, and assess progress toward work plan objectives agreed upon in the granting of the award.

Current Action

The Corporation seeks to reinstate the previously used PPR to: (a) Enhance data elements collected via this information collection tool; (b) migrate the paper version of the form to the Corporation's electronic grants management system, eGrants; and (c) establish reporting periods consistent with the Corporation's integrated grants management and reporting policies.

The Corporation anticipates making available to all NSSC grantees an OMB approved revised PPR by April of 2004.

The revised PPR will be used by NSSC grantees to report progress toward accomplishing work plan goals and objectives, reporting actual outcomes related to self-nominated performance measures meeting challenges encountered, describing significant activities, and requesting technical assistance. Submission requirements are proposed to be revised as follows:

• Established multi-year NSSC grantees will submit the complete report semi-annually within 30 days of the end of their annual budget cycle.

• New projects in their first year, new components of statewide projects, demonstrations, and projects experiencing problems or with substantial project revisions may, upon review and recommendations of project managers, submit the PPR quarterly.

Type of Review: Reinstatement With Change of a Previously Approved Collection for Which Approval Has Expired.

Agency: Corporation for National and Community Service.

Title: National Senior Services Corps Project Progress Report.

OMB Number: 3045-0033.

Agency Number: CNCS Form 1020.

Affected Public: Sponsors of National Senior Service Corps grants.

Total Respondents: 1,350.

Frequency: Semi-annual. It is estimated that 1,350 will respond semi-annually and 50 quarterly.

Average Time Per Response: 8.7 hours.

Estimated Total Burden Hours: 11, 000 hours.

Total Burden Cost (capital/startup): None.

Total Burden Cost (operating/maintenance): $2,000.

Comments submitted in response to this notice will be summarized and/or included in the request for Office of Management and Budget approval of the information collection request; they will also become a matter of public record.

Dated: December 1, 2003.
Tess Scannell,
Director, National Senior Service Corps.

[FR Doc. 03-30228 Filed 12-4-03; 8:45 am]

BILLING CODE 6050-$$-P